DEPARTMENT OF DEFENSE

Reciprocal Procurement Memoranda of Understanding—Implementation Reviews

AGENCY: Department of Defense.

ACTION: Request for public comments.

SUMMARY: The Office of Foreign Contracting, Defense Procurement, is seeking information that will assist it in reviewing the defense procurement practices of countries with which the Department of Defense (DoD) has a reciprocal procurement Memorandum of Understanding (MOU). These countries are: Australia, Austria, Belgium, Canada, Denmark, Egypt, Finland, France, Germany, Greece, Israel, Italy, Luxembourg, Netherlands, Norway, Portugal, Spain, Sweden, Switzerland, Turkey, and the United Kingdom. Interested parties are invited to submit written comments concerning the defense procurement practices of MOU countries that will assist the Office of Foreign Contracting in evaluating the manner in which these reciprocal MOUs are being implemented.

DATES: Comments must be received no later than June 26, 2000.

ADDRESSES: Send all comments to Domenico C. Cipicchio, Deputy Director, Defense Procurement, Foreign Contracting, OUSD (AT&L), 3060 Defense Pentagon, Washington, DC 20301-3060.

FOR FURTHER INFORMATION CONTACT: Susan M. Hildner, Procurement Analyst, Defense Procurement, Foreign Contracting, OUSD (AT&L), 3060 Defense Pentagon, Washington, DC 20301-3060, (703) 697-9352.

SUPPLEMENTARY INFORMATION: The DoD has a bilateral reciprocal defense procurement MOU with each of the countries identified above. These MOUs are designed to promote interoperability and standardization of defense equipment between the U.S. and its allies. The MOUs also seek to eliminate buy-national barriers and other discriminatory procurement practices so that the industries of each country receive fair and equal access to each other's defense procurements. The Office of Foreign Contracting will be performing reviews of the manner in which these MOUs are being implemented and is interested in obtaining information on any discriminatory practices that hinder the ability of U.S. suppliers to compete for defense-related procurements within any of these countries. Problem areas could include: Inability to locate publication notices on upcoming procurements, difficulty in obtaining solicitations in a timely manner, inadequate response time for offers, issues associated with application of customs duties, buy-national practices that favor other than U.S. industry, imposition of offset requirements, inability to obtain debriefing information, inability to protest source selection decisions, and protection of proprietary information as well as any other discriminatory practice that needs to be addressed.

All materials should be submitted with 3 copies. Material that is business confidential information will be exempted from public disclosure as provided for by 5 U.S.C. 552(b)(4) (Freedom of Information ACT (FOIA) rules). Anyone submitting business confidential information should clearly identify the business confidential portion of the submission and also provide a non-confidential submission, which can be placed in the public file. Comments not marked business confidential may be subject to disclosure under FOIA.

Michele P. Peterson,
Executive Editor, Defense Acquisition Regulations Council.

[FR Doc. 00-11976 Filed 5-11-00; 8:45 am]

BILLING CODE 5000-04-M